Proclamation 9542 of November 10, 2016

National Apprenticeship Week, 2016

By the President of the United States of America

A Proclamation

When I took office, our economy was in freefall—millions of Americans lost their jobs and paid the price of the worst recession of our time. But with grit and determination, our people fought their way back and began working to rebuild an economy that works for everyone. Although we have added more than 15 million jobs in the last 6 years, too many people are still feeling left behind in our 21st-century economy. And because the jobs of today and tomorrow require more advanced skills and training, apprenticeship programs play an increasingly important role in helping people succeed in the workforce. This week, we celebrate the ways this job-driven training model prepares Americans for meaningful employment, and we resolve to expand access to this essential pathway to opportunity.

Registered apprenticeships connect job-seekers to better paying jobs that are in high demand, and by providing hands-on experiences and allowing Americans to earn while they learn, they help workers gain the skills and knowledge necessary to thrive in our modern economy. More than 90 percent of apprentices find employment after completing their programs, with graduates earning an average starting salary over $60,000. In addition to benefitting employees, apprenticeship programs also help employers by increasing productivity and innovation with a high return on investment. A variety of industries—from healthcare to construction to information technology and advanced manufacturing—are using apprenticeship programs to meet their workforce needs. To bolster the competitiveness of those industries and others, it is imperative that our Nation continues investing in apprenticeship programs. Across our country, State and local leaders have done just that—in some cases expanding apprenticeships by over 20 percent in their regions. And since 2014, 290 colleges have joined in the effort to offer college credit toward a degree for completing apprenticeship programs.

My Administration applauds these widespread efforts and remains committed to supporting apprenticeship programs. Two years ago, I announced a goal to double the number of registered apprenticeships, and with 125,000 more active apprenticeships today than in 2014, we have seen the largest 3-year increase in nearly a decade. We invested unprecedented levels of Federal funding in apprenticeships, including recently awarding more than $50 million in new grants to States through the ApprenticeshipUSA initiative. This year, we also invested over $20 million to start new apprenticeship programs and help historically underrepresented individuals—including women, minorities, and people with disabilities—access apprenticeship programs. Last year, I signed the first-ever annual Federal funding for apprenticeship programs into law, and I will keep calling on the Congress to continue funding these efforts so that this work is carried forward for years to come. And because those who have served our country in uniform deserve every opportunity to enjoy the American dream they helped defend, we are working to provide assistance to service members and veterans who seek to enter registered apprenticeship programs.

During National Apprenticeship Week, employers, sponsors, and leaders across our country will host open houses to highlight the significant value of apprenticeships in our economy. Let us encourage more employers to offer—and more workers to take advantage of—these indispensable learning and training opportunities, and together let us continue working to equip the American workforce to meet the demands of an ever changing future so it is filled with prosperity and opportunity for all who are willing to work for it.

NOW, THEREFORE, I, BARACK OBAMA, President of the United States of America, by virtue of the authority vested in me by the Constitution and the laws of the United States, do hereby proclaim November 13 through November 19, 2016, as National Apprenticeship Week. I urge the Congress, State and local governments, educational institutions, industry and labor leaders, and all Americans to support apprenticeship programs in the United States and to raise awareness of their contributions to our country.

IN WITNESS WHEREOF, I have hereunto set my hand this tenth day of November, in the year of our Lord two thousand sixteen, and of the Independence of the United States of America the two hundred and forty-first.

[FR Doc. 2016-27759

Filed 11-15-16; 11:15 am]

Billing code 3295-F7-P